POSTAL SERVICE

Domestic and International Product Changes—Address Management Services; Customized Postage; Address Enhancement Service; Greeting Cards, Stationery, and Related Items; Shipping and Mailing Supplies; International Money Transfer Service-Outbound (IMTS-Outbound); and International Money Transfer Service-Inbound (IMTS-Inbound)

AGENCY: Postal Service™.

ACTION: Notice.

SUMMARY: The Postal Service gives notice of filing a request with the Postal Regulatory Commission to add Address Management Services and Customized Postage to the list of Market Dominant products in the Mail Classification Schedule (MCS), and to add Address Enhancement Service; Greeting Cards, Stationery, and Related Items; Shipping and Mailing Supplies; International Money Transfer Service-Outbound (IMTS-Outbound); and International Money Transfer Service-Inbound (IMTS-Inbound) to the list of Competitive products in the MCS.

DATES: April 7, 2009.

FOR FURTHER INFORMATION CONTACT: Anthony Alverno, (202) 268-2997.

SUPPLEMENTARY INFORMATION: In accordance with Postal Regulatory Commission Order No. 154 and 39 U.S.C. 3642, the United States Postal Service® hereby gives notice that it has filed with the Postal Regulatory Commission a Request of the United States Postal Service to Add Postal Products to the Mail Classification Schedule in Response to Order No.154. Documents are available at http://www.prc.gov, Docket No. MC2009-19.

Neva R. Watson,
Attorney, Legislative.

[FR Doc. E9-7733 Filed 4-6-09; 8:45 am]

BILLING CODE 7710-12-P